DEPARTMENT OF HEALTH AND HUMAN SERVICES

Chronic Fatigue Syndrome Advisory Committee

AGENCY: Office of the Secretary, HHS.

ACTION: Notice of meeting.

SUMMARY: As stipulated by the Federal Advisory Committee Act, the Department of Health and Human Services (DHHS) is hereby giving notice that the Chronic Fatigue Syndrome Advisory Committee (CFSAC) will hold a meeting. The meeting will be open to the public.

DATES: The meeting will be held on Monday, December 8, 2003, from 9 a.m. to 5 p.m.

ADDRESSES: Department of Health and Human Services, Hubert H. Humphrey Building, Room 800, Washington, DC 20201.

FOR FURTHER INFORMATION CONTACT: Dr. Larry E. Fields, Executive Secretary, Chronic Fatigue Syndrome Advisory Committee, U.S. Department of Health and Human Services, Hubert H. Humphrey Building, 200 Independence Avenue, SW., Room 719H, Washington, DC 20201; (202) 690-7694.

SUPPLEMENTARY INFORMATION: CFSAC was established on September 5, 2002, to replace the Chronic Fatigue Syndrome Coordinating Committee. CFSAC was established to advise, consult with, and make recommendations to the Secretary, through the Assistant Secretary for Health, on a broad range of topics including (1) the current state of knowledge and research about the epidemiology and risk factors relating to chronic fatigue syndrome, and identifying potential opportunities in these areas; (2) current and proposed diagnosis and treatment methods for chronic fatigue syndrome; and (3) development and implementation of programs to inform the public, health care professionals, and the biomedical, academic, and research community about chronic fatigue syndrome advances.

The tentative agenda for this meeting is as follows:

9 a.m.—Call to Order, Roll Call, Introductions, Minutes of the September 29th meeting.

9:30 a.m.—Presentations, Executive Secretary, Organizational Matters, Communications (Web site, listserv), Ex Officio Members, Status of Departmental CFS-directed efforts, Requested follow-ups, Q & A.

12 noon—Lunch Break.

1 p.m.—Further Discussions, Carry-over Issues, CFSAC Mission Statement, CFSAC Goals and Priorities, Name change, New Issues.

3:30 p.m.—Public Comments.

4:30 p.m.—Wrap Up, Action Steps, Timelines, Next Meeting.

5 p.m.—Adjournment.

Public attendance at the meeting is limited to space available. Individuals must provide a photo ID for entry into the meeting. Individuals who plan to attend and need special assistance, such as sign language interpretation or other reasonable accommodations, should notify the designated contact person. Members of the public will have the opportunity to provide comments at the meeting. Preregistration is required for public comment. Any individual who wishes to participate in the public comment session should call the telephone number listed in the contact information to register. Public comment will be limited to five minutes per speaker. Any members of the public who wish to have printed material distributed to CFSAC members should submit materials to the Executive Secretary, CFSAC, whose contact information is listed above prior to close of business December 1, 2003.

Dated: November 7, 2003.
Larry E. Fields,
Executive Secretary, Chronic Fatigue Syndrome Advisory Committee.

[FR Doc. 03-28579 Filed 11-13-03; 8:45 am]

BILLING CODE 4150-28-P